DEPARTMENT OF TRANSPORTATION

Federal Aviation Administration

14 CFR Part 39

[Docket No. FAA-2005-21611; Directorate Identifier 2004-NM-234-AD]

RIN 2120-AA64

Airworthiness Directives; Airbus Model A300 B4-600, B4-600R, and F4-600R Series Airplanes, and Model C4-605R Variant F Airplanes (Collectively Called A300-600 Series Airplanes) and Model A310 Series Airplanes

AGENCY: Federal Aviation Administration (FAA), Department of Transportation (DOT).

ACTION: Notice of proposed rulemaking (NPRM).

SUMMARY: The FAA proposes to adopt a new airworthiness directive (AD) for all Airbus Model A300-600 and A310 series airplanes. This proposed AD would require inspecting for certain serial numbers on elevators, and doing a detailed inspection, visual inspection with a low-angle light, and tap-test inspection of the upper and lower surfaces of the external skins on certain identified elevators for any damage (i.e., debonding of the graphite fiber reinforced plastic/Tedlar film protection, bulges, debonding of the honeycomb core to the carbon fiber reinforced plastic, abnormal surface reflections, and torn-out plies), and corrective actions if necessary. This proposed AD is prompted by reports of debonded skins on the elevators. We are proposing this AD to detect and correct debonding of the skins on the elevators, which could cause reduced structural integrity of an elevator and reduced controllability of the airplane.

DATES: We must receive comments on this proposed AD by July 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street, SW., room PL-401, on the plaza level of the Nassif Building, Washington, DC. This docket number is FAA-2005-21611; the directorate identifier for this docket is 2004-NM-234-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-21611; Directorate Identifier 2004-NM-234-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket website, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Direction Générale de l'Aviation Civile (DGAC), which is the airworthiness authority for France, notified us that an unsafe condition may exist on all Airbus Model A300 B4-600, B4-600R, and F4-600R series airplanes, and Model C4-605R Variant F airplanes (collectively called A300-600 series airplanes), and Model A310 series airplanes. The DGAC advises that there have been reports of debonding of the external Graphite Fiber Reinforced Plastic (GFRP)/Tedlar film protection from the outer skin of the elevator upper panel; and of the honeycomb core from the carbon fiber reinforced plastic (CFRP) inner skin of the upper panel. The debonding was found during a maintenance inspection. The debonding of the external GFRP/Tedlar film protection can result in the presence of water inside the CFRP honeycomb core panel and consequent debonding of the honeycomb core. This condition, if not detected and corrected in a timely manner, could result in reduced structural integrity of the elevator and reduced controllability of the airplane.

Relevant Service Information

Airbus has issued All Operator Telex (AOT) A300-600-55A6032, dated June 23, 2004 (for Model A300-600 series airplanes); and AOT A310-55A2033, dated June 23, 2004 (for Model A310 series airplanes). The AOTs describe procedures for determining the serial number of the elevator, doing repetitive detailed inspections, visual inspections with a low-angle light, and tap-test inspections of the upper and lower surfaces of the external skins on the identified elevators for any damage (i.e., debonding of the graphite GFRP/Tedlar film protection, bulges, debonding of the honeycomb core to the carbon fiber reinforced plastic, abnormal surface reflections, and torn-out plies), contacting Airbus for an alternative inspection if interested, and doing corrective actions. The tap-test inspections may involve using a manual hammer. The alternative inspection may involve a thermographic inspection (in lieu of the tap-test inspection). The corrective actions may involve replacing the GFRP/Tedlar film, reporting damage to Airbus, replacing the elevator, and replacing the honeycomb core. The DGAC mandated the service information and issued French airworthiness directive F-2004-131(B), dated August 4, 2004, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require accomplishing the actions specified in the service information described previously, except as described below in “Differences Between this Proposed AD and the AOTs.”

Differences Between This Proposed AD and the AOTs

The AOTs specify that you may contact the manufacturer for instructions on how to repair certain conditions, but this proposed AD would require you to repair those conditions using a method that we or the DGAC (or its delegated agent) approve. In light of the type of repair that would be required to address the unsafe condition, and consistent with existing bilateral airworthiness agreements, we have determined that, for this proposed AD, a repair we or the DGAC approve would be acceptable for compliance with this proposed AD.

Operators should note that, although the Accomplishment Instructions of the referenced AOTs describe procedures for submitting inspection reports, this proposed AD would not require those actions. The FAA does not need this information from operators.

Interim Action

This is considered to be interim action. The manufacturer has advised that it currently is developing a modification that will address the unsafe condition addressed by this AD. Once this modification is developed, approved, and available, the FAA may consider additional rulemaking.

Costs of Compliance

This proposed AD would affect about 172 airplanes of U.S. registry.

The proposed inspection for the serial number would take about 1 work hour per airplane, at an average labor rate of $65 per work hour. Based on these figures, the estimated cost of the proposed AD for U.S. operators is $11,180, or $65 per airplane.

The proposed detailed inspection, visual inspection with a low-angle light, and tap-test inspection of the elevator would take about 3 work hours per elevator (two elevators per airplane), at an average labor rate of $65 per work hour. Based on these figures, the estimated cost of the proposed AD for U.S. operators is $67,080, or $390 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-21611; Directorate Identifier 2004-NM-234-AD.

Comments Due Date

(a) The Federal Aviation Administration must receive comments on this AD action by July 22, 2005.

Affected ADs

(b) None.

Applicability

(c) This AD applies to Airbus Model A300 B4-600, B4-600R, and F4-600R series airplanes, and Model C4-605R Variant F airplanes (collectively called A300-600 series airplanes); and Model A310 series airplanes, certificated in any category; equipped with carbon fiber elevators having part number (P/N) A55276055000 (left-hand side) or P/N A55276056000 (right-hand side).

Unsafe Condition

(d) This AD was prompted by reports of debonded skins on the elevators. We are issuing this AD to detect and correct debonding of the skins on the elevators, which could cause reduced structural integrity of an elevator and reduced controllability of the airplane.

Compliance

(e) You are responsible for having the actions required by this AD performed within the compliance times specified, unless the actions have already been done.

Inspection for Serial Number, Repetitive Inspections, and Corrective Actions

(f) Within 600 flight hours after the effective date of this AD, inspect to determine if the serial number (S/N) of the elevator is listed in Airbus All Operators Telex (AOT) A300-600-55A6032, dated June 23, 2004 (for Model A300-600 series airplanes); or in Airbus AOT A310-55A2033, dated June 23, 2004 (for Model A310 series airplanes).

(1) If the S/N does not match any S/N on either AOT S/N list, no further action is required by this paragraph.

(2) If the S/N matches a S/N listed in an AOT, before further flight, do the actions listed in Table 1 of this AD, and any corrective action as applicable in accordance with Airbus AOT A300-600-55A6032, dated June 23, 2004; or in Airbus AOT A310-55A2033, dated June 23, 2004. Repeat the inspections at intervals not to exceed 600 flight hours. Do applicable corrective actions before further flight.

Table 1.—Repetitive Inspections
Do a— | Of the— | For any—
Detailed inspection | Elevator upper and lower external skin surfaces | Damage (i.e., breaks in the graphite fiber reinforced plastic (GFRP)/Tedlar film protection, debonded GFRP/Tedlar film protection, bulges, torn-out plies).
Visual inspection with a low-angle light | Elevator upper and lower external skin surfaces | Differences in the surface reflection.
Tap-test inspection | Upper and lower external skin surfaces of the honeycomb core panels in the elevator | Honeycomb core that has debonded from the carbon fiber reinforced plastic (CFRP).

Note 1: For the purposes of this AD, a detailed inspection is “an intensive examination of a specific item, installation, or assembly to detect damage, failure, or irregularity. Available lighting is normally supplemented with a direct source of good lighting at an intensity deemed appropriate. Inspection aids such as mirrors magnifying lenses, etc. may be necessary. Surface cleaning and elaborate procedures may be required.”

Repair Approval

(g) Where the service bulletin says to contact the manufacturer for repair instructions, or an alternative inspection method: Before further flight, repair or do the alternative inspection method according to a method approved by either the Manager, International Branch, ANM-116, FAA, Transport Airplane Directorate; or the Direction Générale de l'Aviation Civile (DGAC) (or its delegated agent).

Parts Installation

(h) As of the effective date of this AD, no carbon fiber elevator having part number (P/N) A55276055000 (left-hand side) or P/N A55276056000 (right-hand side) may be installed on any airplane unless it is inspected according to paragraph (f) of this AD.

No Reporting Required

(i) Although the AOTs referenced in this AD specify to submit inspection reports to the manufacturer, this AD does not include that requirement.

Alternative Methods of Compliance (AMOCs)

(j) The Manager, International Branch, ANM-116, has the authority to approve AMOCs for this AD, if requested in accordance with the procedures found in 14 CFR 39.19.

Related Information

(k) French airworthiness directive F-2004-131, dated August 4, 2004, also addresses the subject of this AD.

Issued in Renton, Washington, on June 16, 2005.
Ali Bahrami,
Manager, Transport Airplane Directorate, Aircraft Certification Service.

[FR Doc. 05-12300 Filed 6-21-05; 8:45 am]

BILLING CODE 4910-13-P